FEDERAL ACCOUNTING STANDARDS ADVISORY BOARD

Notice of May 31, 2023, FASAB Meeting

AGENCY: Federal Accounting Standards Advisory Board.

ACTION: Notice.

SUMMARY: Notice is hereby given that the Federal Accounting Standards Advisory Board (FASAB) will hold a meeting on May 31, 2023. The purpose of the meeting is to discuss issues related to embedded leases. The meeting will begin at 1 p.m. and conclude at 3:00 p.m. The meeting will be held virtually and open to the public.

ADDRESSES: The agenda, briefing materials, and teleconference information for the meeting will be available at https://www.fasab.gov/briefing-materials/approximately one week before the meeting.

FOR FURTHER INFORMATION CONTACT: Ms. Monica R. Valentine, Executive Director, 441 G Street NW, Suite 1155, Washington, DC 20548, or call (202) 512-7350.

Authority: 31 U.S.C. 3511(d); Federal Advisory Committee Act, 5 U.S.C. 1001-1014.

Dated: May 15, 2023.
Monica R. Valentine,
Executive Director.

[FR Doc. 2023-10675 Filed 5-18-23; 8:45 am]

BILLING CODE 1610-02-P